OFFICE OF THE UNITED STATES TRADE REPRESENTATIVE

Request for Public Comment on Review of Employment Impact of United States-Chile Free Trade Agreement

AGENCY: Office of the United States Trade Representative, Department of Labor.

ACTION: Request for comments.

SUMMARY: The interagency Trade Policy Staff Committee (TPSC) gives notice that the Office of the United States Trade Representative (USTR) and the Department of Labor are initiating a review of the impact of the proposed U.S.-Chile Free Trade Agreement (FTA) on United States employment, including labor markets. This notice seeks written public comment on potentially significant sectoral or regional employment impacts (both positive and negative) in the United States as well as other likely labor market impacts of the FTA.

DATES: USTR and the Department of Labor will accept any comments received during the course of the negotiations of the FTA. However, comments should be received by noon, November 15, 2002, to be assured of timely consideration in the preparation of the report.

ADDRESSES: Submissions by electronic mail: FR0043@ustr.gov (written comments). Submissions by facsimile: Gloria Blue, Executive Secretary, Trade Policy Staff Committee, at 202/395-6143.

The public is strongly encouraged to submit documents electronically rather than by facsimile. (See requirements for submissions below.)

FOR FURTHER INFORMATION CONTACT: For procedural questions concerning public comments, contact Gloria Blue, Executive Secretary, TPSC, Office of the USTR, 1724 F Street, NW., Washington, DC 20508, telephone (202) 395-3475. Substantive questions concerning the employment impact review should be addressed to Jorge Perez-Lopez, Director, Office of International Economic Affairs, Bureau of International Labor Affairs, U.S. Department of Labor, 200 Constitution Avenue, NW., Washington, DC 20210, telephone (202) 693-4883, or William Clatanoff, Assistant U.S. Trade Representative for Labor, telephone (202) 395-6120.

SUPPLEMENTARY INFORMATION: On November 29, 2000, Presidents Clinton and Lagos announced their intention to negotiate a U.S.-Chile Free Trade Agreement (FTA). Negotiations were launched on December 6, 2000, in Washington, DC On December 14, 2000, USTR issued a public notice of intent to conduct negotiations, initiation of an environmental review under Executive Order 13141, and request for comments (65 FR 78077, Dec. 14, 2000). The negotiations have made substantial progress and are expected to conclude in the coming months.

On November 7, 2001, the Office of the U.S. Trade Representative, through the Trade Policy Staff Committee, published and sought comments on the draft environmental review of the proposed U.S.-Chile Free Trade Agreement (66 FR 56366, Nov. 7, 2001). The draft environmental review was conducted pursuant to Executive Order 13141 and its accompanying guidelines (65 FR 79442, Dec. 19, 2000). Persons seeking to submit comments concerning the review of the FTA's employment impact are referred to the draft environmental review, which contains information on the potential trade and economic effects and a summary of each chapter of the proposed FTA. The draft report may be found on the USTR Web site at http://www.ustr.gov/environment/draftchileer.pdf.

Section 2102(c)(5) of the Bipartisan Trade Promotion Act of 2002, 19 U.S.C. 3802(c)(5), directs the President to “review the impact of future trade agreements on United States employment, including labor markets, modeled after Executive Order 13141 to the extent appropriate in establishing procedures and criteria, report to the Committee on Ways and Means of the House of Representatives and the Committee on Finance of the Senate on such review, and make that report available to the public.” USTR and the Department of Labor will be conducting the employment review through the interagency Trade Policy Staff Committee (TPSC).

The employment impact review initiated by this Federal Register notice will be based on the following elements, which are modeled, to the extent appropriate, after those in Executive Order 13141. The review will be: (1) Written; (2) made available to the public in draft form for public comment, to the extent practicable; and (3) made available to the public in final form.

Comments may be submitted on potentially significant sectoral or regional employment impacts (both positive and negative) in the United States as well as other likely U.S. labor market impacts of the FTA. Persons submitting comments should provide as much detail as possible in support of their submissions.

Submitting Comments: To ensure prompt and full consideration of responses, the TPSC strongly recommends that interested persons submit comments by electronic mail to the following e-mail address: FR0043@ustr.gov. Persons making submissions by e-mail should use the following subject line: “Chile Employment Review.” Documents should be submitted as either WordPerfect, MSWord, or text (.TXT) files. Supporting documentation submitted as spreadsheets is acceptable as Quattro Pro or Excel. For any document containing business confidential information submitted electronically, the file name of the business confidential version should begin with the characters “BC-”, and the file name of the public version should begin with the character “P-”. The “P-” or “BC-” should be followed by the name of the submitter. Persons who make submissions by e-mail should not provide separate cover letters; information that might appear in a cover letter should be included in the submission itself. Similarly, to the extent possible, any attachments to the submission should be included in the same file as the submission itself, and not as separate files.

Written comments will be placed in a file open to public inspection pursuant to 15 CFR 2003.5, except confidential business information exempt from public inspection in accordance with 15 CFR 2003.6. Confidential business information submitted in accordance with 15 CFR 2003.6 must be clearly marked “Business Confidential” at the top of each page, including any cover letter or cover page, and must be accompanied by a non-confidential summary of the confidential information. All public documents and non-confidential summaries shall be available for public inspection in the USTR Reading Room in Room 3 of the annex of the Office of the USTR, 1724 F Street, NW., Washington, DC 20508. An appointment to review the file may be made by calling (202) 395-6186. The USTR Reading Room is generally open to the public from 10-12 a.m. and 1-4 p.m. Monday through Friday. Appointments must be scheduled at least 48 hours in advance.

General information concerning the Office of the United States Trade Representative may be obtained by accessing its Internet server (http://www.ustr.gov).

Carmen Suro-Bredie,
Chairman, Trade Policy Staff Committee.

[FR Doc. 02-26731 Filed 10-16-02; 3:45 pm]

BILLING CODE 3190-01-P